DEPARTMENT OF HOMELAND SECURITY

Coast Guard

33 CFR Part 117

[Docket Number USCG-2009-1011]

Drawbridge Operating Regulations; Victoria Barge Canal, Bloomington, Texas

AGENCY: Coast Guard, DHS.

ACTION: Notice of temporary deviation from regulations.

SUMMARY: The Commander, Eighth Coast Guard District, has issued a temporary deviation from the regulation governing the operation of the Union Pacific Railroad (UPRR) Vertical Lift Span Bridge across the Victoria Barge Canal, mile 29.4 at Bloomington, Victoria County, Texas. The deviation is necessary to allow for replacement of the steel lift cables of the draw span.

DATES: This deviation is effective from 8 a.m. on Wednesday, December 9, 2009 until 6 p.m. on Wednesday, December 23, 2009.

ADDRESSES: Documents mentioned in this preamble as being available in the docket are part of docket USCG-2009-1011 and are available online by going to www.regulations.gov, inserting USCG-2009-1011 in the “Keyword” box and then clicking “Search.” They are also available for inspection or copying at the Docket Management Facility (M-30), U.S. Department of Transportation, West Building Ground Floor, Room W12-140, 1200 New Jersey Avenue SE., Washington, DC 20590 between 9 a.m. and 5 p.m., Monday through Friday, except Federal holidays.

FOR FURTHER INFORMATION CONTACT: If you have questions on this rule, call or e-mail Phil Johnson, Bridge Administration Branch, Eighth Coast Guard District; telephone 504-671-2128, e-mail Philip.R.Johnson@uscg.mil. If you have questions on viewing the docket, call Renee V. Wright, Program Manager, Docket Operations, telephone 202-366-9826.

SUPPLEMENTARY INFORMATION: The Victoria County Navigation District has requested a temporary deviation from the operating schedule of the UPRR Vertical Lift Span Bridge across the Victoria Barge Canal, mile 29.4 at Bloomington, Texas. The vertical lift bridge has a vertical clearance of 22 feet above high water in the closed-to-navigation position and 50 feet above high water in the open-to-navigation position.

Presently, the bridge opens on signal for the passage of vessels. This deviation allows the draw span of the bridge to remain closed to navigation for 10 consecutive hours between 8 a.m. and 6 p.m. on intermittent days from December 9 through December 23, 2009. Uncontrollable variables such as material supply delays and inclement weather make it difficult to predict the exact dates that work can be conducted. Thus, the exact dates for the closures cannot be firmly scheduled. Notices will be published in the Eighth Coast Guard District Local Notice to Mariners and will be broadcast via the Coast Guard Broadcast Notice to Mariners System as soon as information pertaining to the exact closure dates becomes available. Navigation on the waterway consists mainly of tugs with tows. Due to prior experience and coordination with waterway users, it has been determined that this closure will not have a significant effect on these vessels.

No alternate routes are available. The closures are necessary for the replacement of the steel lift cables on the bridge. The Coast Guard will coordinate the closures with the commercial users of the waterway as exact closure dates are known.

In accordance with 33 CFR 117.35(e), the drawbridge must return to its regular operating schedule immediately at the end of the designated time period. This deviation from the operating regulations is authorized under 33 CFR 117.35.

Dated: November 18, 2009.
David M. Frank,
Bridge Administrator.

[FR Doc. E9-28704 Filed 11-30-09; 8:45 am]

BILLING CODE 9110-04-P